NATIONAL AERONAUTICS AND SPACE ADMINISTRATION

[Notice 05-025]

NASA Advisory Council, Aerospace Medicine and Occupational Health Advisory Committee

AGENCY: National Aeronautics and Space Administration (NASA).

ACTION: Notice of meeting.

SUMMARY: In accordance with the Federal Advisory Committee Act, Public Law 92-463, as amended, the National Aeronautics and Space Administration announces a meeting of the NASA Advisory Council, Aerospace Medicine and Occupational Health Advisory Committee.

DATES: Tuesday, March 8, 2005, 8:30 a.m. to 4:30 p.m.

ADDRESSES: National Aeronautics and Space Administration, 300 E Street, SW., Room 9H40, Washington, DC. Attendees must check in at the Visitor's Center located in the West Lobby (4th and E Streets).

FOR FURTHER INFORMATION CONTACT: Ms. Pamela Barnes, Mail Suite 8V39, National Aeronautics and Space Administration, Washington, DC, 20546, (202) 358-2390.

SUPPLEMENTARY INFORMATION: The meeting will be open to the public up to the seating capacity of the room. The agenda for the meeting is as follows:

—Opening Remarks by Chief Health and Medical Officer

—Aerospace Medicine and Occupational Health Advisory Committee Report from June 2, 2004, Meeting

—Aerospace Medicine Highlights and Issues

—Occupational Health Highlights and Issues

—Discussion of Independent Technical Authority

—Open discussion and action assignments

—Closing Comments

Attendees will be requested to sign a register and to comply with NASA security requirements, including the presentation of a valid picture ID, before receiving an access badge. Foreign nationals attending this meeting will be required to provide the following information: full name; gender; date/place of birth; citizenship; visa/green card information (number, type, expiration date); employer/affiliation information (name of institution, address, county, phone); and title/position of attendee. To expedite admittance, attendees can provide identifying information in advance by contacting Ms. Pamela R. Barnes via e-mail at pamela.r.barnes@nasa.gov or by telephone at (202) 358-2390. Persons with disabilities who require assistance should indicate this. It is imperative that the meeting be held on this date to accommodate the scheduling priorities of the key participants.

Dated: February 9, 2005.
P. Diane Rausch,
Advisory Committee Management Officer, National Aeronautics and Space Administration.

[FR Doc. 05-2935 Filed 2-15-05; 8:45 am]

BILLING CODE 7510-13-P